DEPARTMENT OF THE TREASURY

Internal Revenue Service

Applications for Membership on the Electronic Tax Administration Advisory Committee (ETAAC)

AGENCY: Internal Revenue Service (IRS), Treasury.

ACTION: Request for Applications.

SUMMARY: The Internal Revenue Service (IRS) requests applications of individuals to be considered for membership on the Electronic Tax Administration Advisory Committee (ETAAC). Nominations of qualified individuals may come from associations and should describe and document the applicant's qualifications for ETAAC membership. An application and resume are required. Submit a short statement as required in Part II of the application and include recent examples of specific expertise in e-file security, tax software and accuracy. See the ETAAC application, Form 13768 for more details.

The ETAAC provides continued input into the development and implementation of the IRS' strategy for electronic tax administration. The ETAAC also provides an organized public forum for discussion of electronic tax administration issues in support of the overriding goal that paperless filing should be the preferred and most convenient method of filing tax and information returns. ETAAC members convey the public's perception of IRS electronic tax administration activities, offer constructive observations about current or proposed policies, programs, and procedures, and suggest improvements.

The Director, Electronic Tax Administration (ETA) and Refundable Credits will assure that the size and organizational representation of the committee is balanced to include industry representatives from various groups. Accordingly, to maintain membership diversity, selection is based on the applicant's qualifications and expertise.

DATES: Complete application packages must be received by March 28, 2011.

ADDRESSES: Application packages should include: a letter of nomination, application, short statement, and resume. Submit the application package using one of the following methods:

• E-Mail: Send to etaac@irs.gov.

• Fax: Send via facsimile to (202) 283-2845 (not a toll-free number).

FOR FURTHER INFORMATION CONTACT: Ms. Cassandra Daniels, (202) 283-2178 (not a toll-free number).

SUPPLEMENTARY INFORMATION: ETAAC was authorized under the Federal Advisory Committee Act, Public Law and was established as required by the Internal Revenue Service Restructuring and Reform Act of 1998, Title II, Section 2001(b)(2). The ETAAC will research, analyze, consider, and make recommendations on a wide range of electronic tax administration issues and will provide input into the development of the strategic plan for electronic tax administration. The ETAAC will meet approximately four times in Washington, DC and provide an Annual report to Congress each June on IRS progress in meeting the Restructuring and Reform Act of 1998 goals for electronic filing of tax returns.

Receipt of applications will be acknowledged. Only the best qualified applicants will undergo tax checks and background investigations. Interviews will be scheduled for those who pass these checks.

Members will serve a three-year term on the ETAAC to allow for a rotation in membership which ensures that different perspectives are represented. All travel expenses within government guidelines will be reimbursed such as airfare, per diem, and transportation to and from airports, train stations, etc. Members may not be Federally registered lobbyists and must pass an IRS tax compliance check and Federal Bureau of Investigation (FBI) background investigation.

Equal opportunity practices will be followed in all appointments to the Committee. To ensure that the recommendations of the Committee have taken into account the needs of the diverse groups served by the Department, membership will include, to the extent practicable, individuals, with demonstrated ability to represent minorities, women, and persons with disabilities. The Secretary of Treasury will review the recommended candidates and approve the final selections.

Dated: January 28, 2011.
Diane Fox,
Acting Chief, Relationship Management.

[FR Doc. 2011-2329 Filed 2-2-11; 8:45 am]

BILLING CODE 4830-01-P